DEPARTMENT OF TRANSPORTATION

Federal Aviation Administration

Advisory Circular (AC) 20-146, Methodology for Dynamic Seat Certification by Analysis for Use in Parts 23, 25, 27, and 29 Airplanes and Rotorcraft

AGENCY: Federal Aviation Administration, DOT.

ACTION: Notice of issuance of advisory circular.

SUMMARY: This notice announces the issuance of Advisory Circular (AC) 20-146, Methodology for Dynamic Seat Certification by Analysis for Use in parts 23, 25, 27, and 29 Airplanes and Rotorcraft. The AC sets forth an acceptable means, but not the only means, for demonstrating compliance to certain sections of the regulations and the technical standard order associated with those regulations. The AC provides guidance on how to validate the computer model and under what conditions the model may be used in support of certification or TSO approval/authorization.

DATES: Advisory Circular 20-146 was issued by the Acting Manager of the Aircraft Engineering Division on May 19, 2003.

How To Obtain Copies: A paper copy of AC 20-146 may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri, on June 17, 2003.
James E. Jackson,
Acting Manager, Small Airplane Directorate, Aircraft Certification Service.

[FR Doc. 03-16641 Filed 7-1-03; 8:45 am]

BILLING CODE 4910-13-P